DEPARTMENT OF COMMERCE

International Trade Administration

[A-570-932]

Certain Steel Threaded Rod From the People's Republic of China: Partial Rescission of Antidumping Duty Administrative Review

AGENCY: Enforcement and Compliance, International Trade Administration, Commerce.

SUMMARY: On May 29, 2014, the Department of Commerce (“the Department”) published in the Federal Register a notice of initiation of an administrative review of the antidumping duty (“AD”) order on certain steel threaded rod from the People's Republic of China (“PRC”) based on multiple timely requests for an administrative review. The review covers 92 companies. Based on a timely withdrawal of the requests for review of certain companies from Vulcan Threaded Products Inc. (“Petitioner”), we are now rescinding this administrative review with respect to 83 companies.

DATES: Effective September 23, 2014.

FOR FURTHER INFORMATION CONTACT: Julia Hancock or Jerry Huang, AD/CVD Operations, Office V, Enforcement and Compliance, International Trade Administration, U.S. Department of Commerce, 14th Street and Constitution Avenue NW., Washington, DC 20230, telephone: (202) 482-1394 or (202) 482-4047, respectively.

SUPPLEMENTARY INFORMATION:

Background

On April 14, 2009, the Department published in the Federal Register the AD order on certain steel threaded rod from the PRC.¹ On April 1, 2014, the Department published in the Federal Register a notice of opportunity to request an administrative review of the AD order on certain steel threaded rod.² The Department received multiple timely requests for an administrative review of the AD order on certain steel threaded rod and on May 29, 2014, in accordance with section 751(a) of the Tariff Act of 1930, as amended (“the Act”), the Department published in the Federal Register a notice of the initiation of an administrative review of that order.³ The administrative review was initiated with respect to 92 companies or groups of companies, and covers the period from April 1, 2013, through March 31, 2014. On June 18, 2014, Petitioner withdrew its request for an administrative review on 83 companies.⁴ While there are a number of companies which remain under review, the requesting parties timely withdrew all review requests for certain companies, as discussed below.

¹ See Certain Steel Threaded Rod From the People's Republic of China: Notice of Antidumping Duty Order, 74 FR 17154 (April 14, 2009).

² See Antidumping or Countervailing Duty Order, Finding, or Suspended Investigation; Opportunity To Request Administrative Review, 79 FR 18260 (April 1, 2014).

³ See Initiation of Antidumping and Countervailing Duty Administrative Reviews and Request for Revocation in Part, 79 FR 30809, 30813-14 (May 29, 2014).

⁴ See Letter to the Department From Petitioner, Re: Fifth Administrative Review of Certain Steel Threaded Rod from China—Petitioner's Withdrawal of Review Requests for Specific Companies (June 18, 2014).

Rescission of Review, in Part

Pursuant to 19 CFR 351.213(d)(1), the Secretary will rescind an administrative review, in whole or in part, if the party that requested the review withdraws its request within 90 days of the date of publication of the notice of initiation of the requested review. Petitioners withdrew their request for an administrative review of the 83 companies listed in the Appendix.⁵ Petitioner was the only party to request a review of these companies. Accordingly, the Department is rescinding this review, in part, with respect to these entities, in accordance with 19 CFR 351.213(d)(1).⁶

⁵ The Department will no longer consider the NME entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013).

⁶ See Appendix.

Assessment

The Department will instruct U.S. Customs and Border Protection (“CBP”) to assess ADs on all appropriate entries. For the companies for which this review is rescinded, ADs shall be assessed at rates equal to the cash deposit of estimated ADs required at the time of entry, or withdrawal from warehouse, for consumption, in accordance with 19 CFR 351.212(c)(1)(i). The Department intends to issue appropriate assessment instructions directly to CBP 15 days after publication of this notice.

Notification to Importers

This notice serves as the only reminder to importers for whom this review is being rescinded, as of the publication date of this notice, of their responsibility under 19 CFR 351.402(f)(2) to file a certificate regarding the reimbursement of ADs prior to liquidation of the relevant entries during this review period. Failure to comply with this requirement could result in the Secretary's presumption that reimbursement of the ADs occurred and the subsequent assessment of double ADs.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751 and 777(i)(l) of the Act and 19 CFR 351.213(d)(4).

Dated: September 17, 2014.
Gary Taverman,
Associate Deputy Assistant Secretary for Antidumping and Countervailing Duty Operations.

Appendix

• Aihua Holding Group Co. Ltd.

• Autocraft Industry (Shanghai) Ltd.

• Autocraft Industry Ltd.

• Billion Land Ltd.

• Bolt MFG. Trade Ltd.

• C and H International Corporation

• Certified Products International Inc.

• Changshu City Standard Parts Factory

• China Brother Holding Group Co. Ltd.

• China Friendly Nation Hardware Technology Limited

• EC International (Nantong) Co. Ltd.

• Fastwell Industry Co. Ltd.

• Fuda Xiongzhen Machinery Co., Ltd.

• Fuller Shanghai Co. Ltd.

• Haiyan Evergreen Standard Parts Co. Ltd.

• Haiyan Hurras Import & Export Co. Ltd.

• Haiyan Hurras Import Export Co. Ltd.

• Haiyan Jianhe Hardware Co. Ltd.

• Haiyan Julong Standard Part Co. Ltd

• Hangzhou Everbright Imp. & Exp. Co. Ltd.

• Hangzhou Grand Imp. & Exp. Co., Ltd.

• Hangzhou Great Imp. & Exp. Co. Ltd.

• Hangzhou Lizhan Hardware Co. Ltd.

• Hangzhou Tongwang Machinery Co., Ltd.

• Jiabao Trade Development Co. Ltd.

• Jiangsu Ronry Nico Co., Ltd.

• Jiangsu Yanfei Industrial Co., Ltd.

• Jiangsu Zhongweiyu Communication Equipment Co. Ltd.

• Jiashan Steelfit Trading Co. Ltd.

• Jiashan Zhongsheng Metal Products Co., Ltd.

• Jiaxing Xinyue Standard Part Co. Ltd.

• Jiaxing Yaoliang Import & Export Co. Ltd.

• Jinan Banghe Industry & Trade Co., Ltd.

• Macropower Industrial Inc.

• Nanjing Prosper Import & Export Corporation Ltd.

• Ningbiao Bolts & Nuts Manufacturing Co.

• Ningbo Beilun Milfast Metal Works Co. Ltd.

• Ningbo Beilun Pingxin Hardware Co., Ltd.

• Ningbo Dexin Fastener Co. Ltd.

• Ningbo Dongxin High-Strength Nut Co., Ltd.

• Ningbo Fastener Factory

• Ningbo Fengya Imp. And Exp. Co. Ltd.

• Ningbo Fourway Co., Ltd.

• Ningbo Haishu Holy Hardware Import and Export Co. Ltd.

• Ningbo Haishu Wit Import & Export Co. Ltd.

• Ningbo Haishu Yixie Import & Export Co. Ltd.

• Ningbo Jinding Fastening Pieces Co., Ltd.

• Ningbo MPF Manufacturing Co. Ltd.

• Ningbo Panxiang Imp. & Exp. Co. Ltd. (a/k/a Panxiang Imp. & Exp. Co., Ltd.)

• Ningbo Yinzhou Foreign Trade Co., Ltd.

• Ningbo Zhongjiang High Strength Bolts Co. Ltd.

• Ningbo Zhongjiang Petroleum Pipes & Machinery Co. Ltd.

• Orient International Holding Shanghai Rongheng Intl Trading Co. Ltd.

• Prosper Business and Industry Co., Ltd.

• Qingdao Free Trade Zone Health Intl.

• Qingdao Top Steel Industrial Co. Ltd.

• Shaanxi Succeed Trading Co., Ltd.

• Shanghai East Best Foreign Trade Co.

• Shanghai East Best International Business Development Co., Ltd.

• Shanghai Fortune International Co. Ltd.

• Shanghai Furen International Trading

• Shanghai Hunan Foreign Economic Co., Ltd.

• Shanghai Nanshi Foreign Economic Co.

• Shanghai Overseas International Trading Co. Ltd.

• Shanghai Prime Machinery Co. Ltd.

• Shanghai Printing & Dyeing and Knitting Mill

• Shanghai Printing & Packaging Machinery Corp.

• Shanghai Recky International Trading Co., Ltd.

• Shanghai Sinotex United Corp. Ltd.

• Suntec Industries Co., Ltd.

• Suzhou Henry International Trading Co., Ltd.

• T and C Fastener Co. Ltd.

• T and L Industry Co. Ltd.

• Wuxi Metec Metal Co. Ltd.

• Zhejiang Heiter Industries Co., Ltd.

• Zhejiang Heiter MFG & Trade Co. Ltd.

• Zhejiang Jin Zeen Fasteners Co. Ltd.

• Zhejiang Junyue Standard Part Co., Ltd.

• Zhejiang New Oriental Fastener Co., Ltd.

• Zhejiang Yanfei Industrial Co., Ltd.

• Zhejiang Zhenglian Corp.

• Zhejiang Zhenglian Industry Development Co, Ltd.

• Zhoushan Zhengyuan Standard Parts Co., Ltd.

[FR Doc. 2014-22624 Filed 9-22-14; 8:45 am]

BILLING CODE 3510-DS-P